DEPARTMENT OF THE INTERIOR

Bureau of Land Management

[LLWY922000-L13200000-EL0000, WYW181233]

Notice of Invitation To Participate; Coal Exploration License Application WYW181233, WY

AGENCY: Bureau of Land Management, Interior.

ACTION: Notice.

SUMMARY: Pursuant to the Mineral Leasing Act of 1920, as amended by the Federal Coal Leasing Amendments Act of 1976, and to Bureau of Land Management (BLM) regulations, all interested parties are hereby invited to participate with Black Butte Coal Company on a pro rata cost-sharing basis, in its program for the exploration of coal deposits owned by the United States of America in Sweetwater County, Wyoming.

DATES: This notice of invitation will be published in the Rock Springs Rocket Miner once each week for 2 consecutive weeks beginning the week of March 4, 2013, and in the Federal Register. Any party electing to participate in this exploration program must send written notice to both the BLM and Black Butte Coal Company, as provided in the ADDRESSES section below, no later than April 3, 2013.

ADDRESSES: Copies of the exploration plan are available for review during normal business hours in the following offices (serialized under number WYW181233): BLM, Wyoming State Office, 5353 Yellowstone Road, P.O. Box 1828, Cheyenne, WY 82003; and, BLM, Rock Springs Field Office, 280 Highway 191 North, Rock Springs, WY 82901. The written notice should be sent to the following addresses: Black Butte Coal Company, c/o AE Coal, LLC, Attn: Jason Russell, 170 South Main Street, Suite 700, Salt Lake City, UT 84101, and BLM, Wyoming State Office, Branch of Solid Minerals, Attn: Mavis Love, P.O. Box 1828, Cheyenne, WY 82003.

FOR FURTHER INFORMATION CONTACT: Mavis Love, Land Law Examiner, at 307-775-6258. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Black Butte Coal Company has applied to the BLM for a coal exploration license on public land in the Salt Wells area near the existing Black Butte Coal Mine. The purpose of the exploration program is to obtain structural and quality information of the coal. The BLM regulations at 43 CFR 3410 require the publication of an invitation to participate in the coal exploration in the Federal Register. The Federal coal resources included in the exploration license application are located in the following-described lands in Wyoming:

Sixth Principal Meridian

T. 17 N., R. 100 W.,

Sec. 18, lots 5 to 8, inclusive, E½W½, and E½;

Sec. 30, lots 5 to 8, inclusive, E½W½, and E½.

T. 16 N., R. 101 W.,

Sec. 2, lots 9 to 12, inclusive, and S½;

Sec. 4, lots 9 to 12, inclusive, and S½;

Sec. 6, lots 13 to 18, inclusive, E½SW¼, and SE¼;

Secs. 8 and 10;

Sec. 18, lots 5 to 8, inclusive, E½W½, and E½;

Sec. 20;

Sec. 30, lots 5 to 8, inclusive, E½W½, and E½.

T. 17 N., R. 101 W.,

Sec. 2, lots 1 and 2, S½NE¼, SE¼NW¼, and S½;

Secs. 8, 12, and 14;

Sec. 18, lots 1 to 4, inclusive, E½W½, and E½;

Secs. 22, 24, 26, 28, 32, and 34.

T. 16 N., R. 102 W.,

Sec. 2, lots 1 to 4, inclusive, and S½;

Secs. 10, 12, 14, 22, 24, 26, and 28;

Sec. 34, NE¼, N½NW¼, SE¼NW¼, and S½.

T. 17 N., R. 102 W.,

Sec. 24.

The areas described aggregate 18,998.72 acres.

The proposed exploration program is fully described and will be conducted pursuant to an exploration plan to be approved by the BLM.

Authority: 43 CFR 3410.2-1(c)(1).

Donald A. Simpson,
State Director.

[FR Doc. 2013-04741 Filed 3-1-13; 8:45 am]

BILLING CODE 4310-22-P